DEPARTMENT OF THE INTERIOR

Bureau of Indian Affairs

[DR.5A211.IA000413]

Contract Support Costs

AGENCY: Bureau of Indian Affairs, Interior.

ACTION: Notice of Tribal Consultation.

SUMMARY: The Bureau of Indian Affairs (BIA) is announcing tribal consultations to discuss long-term solutions concerning contract support costs. The BIA will conduct a total of five consultation sessions with Indian tribes. This notice establishes the date, time, and location of the consultation sessions.

DATES: Written comments are due by August 31, 2014. See the SUPPLEMENTARY INFORMATION section of this notice for dates of the consultation sessions.

ADDRESSES: See the SUPPLEMENTARY INFORMATION section of this notice for the locations of the consultation sessions. Submit written comments by email to: consultation@bia.gov or by U.S. mail to: Office of the Assistant Secretary—Indian Affairs, U.S. Department of the Interior, Attn: Terrence Parks, Mail Stop 4513 MIB, 1849 C Street NW., Washington, DC 20240.

FOR FURTHER INFORMATION CONTACT: Terrence Parks, Chief, Division of Self-Determination, Office of Indian Services, telephone: (202) 513-7625.

SUPPLEMENTARY INFORMATION: The Consolidated Appropriations Act of 2014 (Act) includes funding to implement the Indian Self-Determination and Education Assistance Act of 1975, as amended, and authorizes discretionary allocations for contract support costs (CSC) for the Bureau of Indian Affairs (BIA). The Act did not limit the amount available in the fiscal year (FY), as in prior years, for the payment of CSC, nor did it include the proposal put forth in the Administration's FY 2014 budget request that would place a cap on the CSC amounts available for each tribal contract or compact. Instead, as set forth in the Join Explanatory Statement accompanying the Act, Congress “remanded back to the agencies to resolve” the determination of CSC amounts to be paid from within the FY 2014 appropriation.

Congress directed the BIA to consult with the tribes and work with the House and Senate committees of jurisdiction, the Office of Management and Budget, and the Committees on Appropriations to formulate long-term accounting, budget, and legislative strategies to work on solutions going forward. Congress indicated that the solution should consider a standardized approach that streamlines the contract negotiation process, provides consistent and clear cost categories, and ensures efficient and timely cost documentation for the agencies and tribes. These sessions, to be held in geographically convenient locations to encourage tribal participation, will allow for broad input regarding these activities. Federally recognized tribes are invited to attend one or more of the consultation sessions regarding contract support costs.

The BIA plans to continue consultation throughout the following months as the agency addresses implementation of its work plan, which was submitted to Congress by May 17, 2014. The following chart details the schedule of the five consultation sessions.

Consultation Sessions
Date | Time (all time local) | Location
Tuesday, July 29, 2014 | 11:00 a.m.-1:00 p.m. | Navajo Nation Department of Transportation Complex, Naataanii Board Room, #16 Old Coal Mine Road, Tse Bonita, NM 86515.
Wednesday, July 30, 2014 | 1:00 p.m.-3:00 p.m. | Wild Horse Pass Hotel and Casino, 5040 Wild Horse Pass Boulevard, Chandler, AZ 85048.
Thursday, July 31, 2014 | 9:00 a.m.-11:00 a.m. | Embassy Suites, 1815 South Meridian Avenue, Oklahoma City, OK 73108.
Wednesday, August 6, 2014 | 1:30 p.m.-3:30 p.m. | Mystic Lake Casino Hotel, Wahpeton and Sisseton Conference Room, 2400 Mystic Lake Boulevard NW., Prior Lake, MN 55372.
Tuesday, August 19, 2014 | 11:00 a.m.-1:00 p.m. | Best Western Ramkota Hotel, 2111 North LaCrosse Street, Rapid City, SD 57701.

Topics

• Welcome and Introductions;

• Overview and presentation on Contract Support Costs; and

• Open microphone for oral comments by tribal representatives.

Dated: June 19, 2014.
Kevin K. Washburn,
Assistant Secretary—Indian Affairs.

[FR Doc. 2014-14872 Filed 6-24-14; 8:45 am]

BILLING CODE 4310-4J-P